DEPARTMENT OF THE INTERIOR

Fish and Wildlife Service

[FWS-R7-R-2010-N082; 70133-1265-0000-U4]

Yukon Flats National Wildlife Refuge, Fairbanks, AK

AGENCY: U.S. Fish and Wildlife Service, Interior.

ACTION: Notice of availability: record of decision.

SUMMARY: We, the U.S. Fish and Wildlife Service (Service), announce the availability of the record of decision (ROD) for the final environmental impact statement (EIS) for a Proposed Land Exchange in the Yukon Flats National Wildlife Refuge (NWR, Refuge). We completed a thorough analysis of the environmental, social, and economic considerations and presented it in our final EIS, which we released to the public on March 12, 2010.

DATES: The Regional Director of the Alaska Region, U.S. Fish and Wildlife Service, signed the ROD on April 21, 2010.

ADDRESSES: You may view or obtain copies of the ROD/final EIS on paper or CD-ROM by any of the following methods:

Web Site: Download a copy of the document(s) at http://yukonflatseis.ensr.com.

E-mail: yukonflats_planning@fws.gov. Include “Yukon Flats ROD” in the subject line of the message.

Fax: Attn: Laura Greffenius, EIS Project Coordinator, (907) 786-3965.

Mail: Laura Greffenius, EIS Project Coordinator, U.S. Fish and Wildlife Service, 1011 East Tudor Road, MS-231, Anchorage, AK 99503.

In-Person Viewing or Pickup: Call Laura Greffenius, EIS Project Coordinator at (907) 786-3872 to make an appointment during regular business hours at U.S. Fish and Wildlife Service, 1011 East Tudor Rd., MS-231, Anchorage, AK 99503.

FOR FURTHER INFORMATION CONTACT: Laura Greffenius, EIS Project Coordinator, phone (907) 786-3872.

SUPPLEMENTARY INFORMATION: With this notice, we finalize the EIS process for a Proposed Land Exchange in the Yukon Flats NWR. In accordance with National Environmental Policy Act (NEPA) (40 CFR 1506.6(b)) requirements, this notice announces the availability of the ROD for the final EIS for a Proposed Land Exchange in the Yukon Flats NWR. We completed a thorough analysis of the environmental, social, and economic considerations, which we included in the final EIS. The ROD documents our selection of the No Land Exchange Alternative (No Action Alternative), the Service's preferred alternative in the final EIS. Under this alternative the Service would not exchange land with Doyon, Limited (Doyon). The No Land Exchange Alternative, as we described in the final EIS/ROD, is the decision to continue to manage lands within the Refuge as they currently are.

Background Information

The Final EIS analyzes the potential direct, indirect, and cumulative impacts associated with the Service's proposed “Agreement in Principle” (Agreement) between the Service and Doyon to exchange and acquire lands within the Refuge. Under the terms of the Agreement, the proposed land exchange involved 110,000 acres of Refuge lands that may hold developable oil and gas reserves, and oil and gas rights to an adjacent 97,000 acres of Refuge lands. Under the Proposed Action, the Refuge would have received a minimum of 150,000 acres of Doyon lands within the Refuge boundaries, and Doyon would have reallocated 56,500 acres of Alaska Native Claims Settlement Act 12(b) land entitlements within the Refuge to lands outside the Refuge.

Alternatives

Alternatives analyzed in the Final EIS included the No Land Exchange (No Action) Alternative, or continuation of present management. The No Action Alternative was the Service's preferred alternative. In addition, three action alternatives were evaluated: (1) The Proposed Action, with land exchanges and acquisitions as described in the Agreement; (2) A Land Exchange with Non-development Easements Alternative, where Doyon would grant non-development easements on 120,000 acres, but would not sell land to the Service; and (3) A Land Exchange Excluding the White-Crazy Mountains Alternative that would exclude from the exchange an area within the Refuge that had been recommended for Wilderness designation.

Among the alternatives evaluated, the No Land Exchange Alternative is the environmentally preferable alternative. It has the least potential for adverse effects to the biological and physical environment of the Refuge, it best protects and preserves the Refuge's resources, and it best supports the purposes for which the Refuge was established.

Public Involvement

Public involvement and comments have been requested, considered, and incorporated throughout the EIS process. The Notice of Intent to prepare an EIS for a proposed land exchange in the Refuge was published in the Federal Register on October 19, 2005 (70 FR 60845). The notice of public scoping meetings was published in the Federal Register on March 3, 2006 (71 FR 10988). Public scoping meetings were held in local communities within the Refuge and surrounding areas. The Service distributed newsletters with project updates discussing opportunities for public involvement and results of public input. Comments and concerns received during this time were used to identify issues and draft alternatives for evaluation in the Draft EIS.

The Notice of Availability for the Draft EIS was published in the Federal Register on January 25, 2008 (73 FR 4617). Public hearings were held in each local community affiliated with the Refuge, plus Fairbanks and Anchorage. From May to July 2008, government-to-government consultations were also held with Tribal Councils who requested them. In response to numerous requests for additional time to review and comment, the comment period was reopened and extended via a Federal Register notice published April 18, 2008 (73 FR 20931). We received more than 100,000 comments during the full comment period. The vast majority of comments, including those from several area tribal governments, opposed the proposed exchange. The Responses to Comments are contained in Volume 2 of the Final EIS.

The Notice of Availability for the Final EIS was published in the Federal Register on March 12, 2010 (75 FR 11905). Comments from tribal governments, Alaska Native and conservation organizations, and individuals expressed support for the Service's designation of the No Action Alternative as the preferred alternative.

Findings and Basis for Decision

In making its decision, the Service reviewed and carefully considered the impacts identified in the draft and final Environmental Impact Statement; relevant issues and concerns; public input received throughout the EIS process, including comments on the draft and final Environmental Impact Statement; and other factors including refuge purposes and relevant laws, regulations, and policies. For the following reasons, the Service selected the No Land Exchange Alternative.

First, the Service has a limited understanding of the effects that oil and gas development would have on the hydrology of lands exchanged to Doyon and lands that would be retained by the Service. Second, the exchange would create a private lands corridor that would almost split the Refuge into two parcels, resulting in habitat fragmentation, and that could degrade the biological integrity, diversity, and environmental health of the Refuge. Third, the Service is concerned that the proposed land exchange could magnify projected changes to Refuge resources from climate change. Fourth, infrastructure associated with access corridors from the proposed exchange would increase human use of the Refuge. Fifth, there is concern that the lands proposed for acquisition by the Service are more likely to be adjacent to prospective areas of development (based on revised U.S. Geological Survey oil and gas data). Impacts from adjacent development would make those lands less desirable to the Service. This has cast doubts on the benefits of the exchange to all involved. The adoption of the No Land Exchange Alternative is effective immediately.

Dated: May 19, 2010.
Geoffrey L. Haskett,
Regional Director, U.S. Fish and Wildlife Service, Anchorage, Alaska.

[FR Doc. 2010-12629 Filed 5-25-10; 8:45 am]

BILLING CODE 4310-55-P